DEPARTMENT OF COMMERCE

Foreign-Trade Zones Board

[B-89-2013]

Foreign-Trade Zone 3—San Francisco, California; Application for Subzone; Phillips 66 Company; Rodeo, California

An application has been submitted to the Foreign-Trade Zones (FTZ) Board by the City and County of San Francisco, grantee of FTZ 3, requesting subzone status for the facility of Phillips 66 Company (Phillips 66), located in Rodeo, California. The application was submitted pursuant to the provisions of the Foreign-Trade Zones Act, as amended (19 U.S.C. 81a-81u), and the regulations of the FTZ Board (15 CFR part 400). It was formally docketed on October 17, 2013.

The proposed subzone (507.35 acres) is located at 1380 San Pablo Avenue, Rodeo, California. A notification of proposed production activity has been submitted and will be published separately for public comment.

In accordance with the FTZ Board's regulations, Christopher Kemp of the FTZ Staff is designated examiner to review the application and make recommendations to the FTZ Board.

Public comment is invited from interested parties. Submissions shall be addressed to the FTZ Board's Executive Secretary at the address below. The closing period for their receipt is December 9, 2013. Rebuttal comments in response to material submitted during the foregoing period may be submitted during the subsequent 15-day period to December 23, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Christopher Kemp at Christopher.Kemp@trade.gov or (202) 482-0862.

Dated: October 17, 2013.
Andrew McGilvray,
Executive Secretary.

[FR Doc. 2013-25212 Filed 10-25-13; 8:45 am]

BILLING CODE 3510-DS-P